ENVIRONMENTAL PROTECTION AGENCY

[FRL-8230-3]

Compliance Assistance Centers; Request for Suggestions on Candidates for Compliance Assistance Center Development

AGENCY: Environmental Protection Agency.

ACTION: Solicitation for suggestions.

SUMMARY: In partnership with industry, academic institutions, environmental groups, and other agencies, the Environmental Protection Agency (EPA) supports fourteen Compliance Assistance Centers (Centers) to help small- and medium-size businesses and local governments better understand and comply with environmental regulations. These Centers provide easy to understand compliance information targeted to specific sectors, geographic and environmental topics: agriculture; automotive service and repair; automotive recycling, chemical manufacturers; construction; Federal facilities; health care; local governments, metal finishing; paints and coatings; printed wiring board manufacturers; printers; transportation; and the U.S. / Mexico / Canada border environmental issues. Additionally, funding has recently been awarded to initiate the development of a Center for the education sector. All Centers can be accessed at http://www.assistancecneters.net. EPA would like to expand the Center program to support other sectors, geographical areas or topical issues.

To support new Center development, EPA has funded the National Center for Manufacturing Sciences (NCMS) to develop, operate and maintain the Compliance Assistance Center Platform (Platform) from which new Centers will be “launched.” The Platform includes a suite of comprehensive Web-based tools necessary new Centers. States, industry, and compliance assistance providers can work with NCMS to establish Centers that will help the regulated community better understand and more efficiently comply with environmental requirements. The Centers for the metal finishing, printed wiring board manufacturing, paints and coatings, construction sector, automotive recycling sector, health care and U.S. / Mexico / Cananda border environmental issues have been developed in partnership with NCMS and the Platform. Visit http://www.envcap.org to access Platform resources.

EPA is exploring new sector, geographical, or topical candidates for Centers in FY 2007 and beyond. Center candidates will be evaluated initially against the following criteria: impact on health and the environment; patterns of noncompliance; assessment that compliance assistance is an appropriate approach to use; predominately involves or affects small businesses; the problem or issue is prevalent nationally; impact of new environmental regulations; subject to multiple environmental statutes/regulations; and not currently supported by an existing compliance assistance program. Once these threshold criteria have been met, an additional criterion will be applied: willingness of a sector or third-party organization to partner with EPA. At this time, EPA is considering the following sectors for new Center development: (1) Food processing (producers of meat products, seafood, dairy, fruits, oils, flour, vegetables, baked goods, etc.); or (2) marinas /boatbuilding (boat building, repair, servicing, docks, fueling).

EPA invites feedback from interested parties on these and other possible candidates for Center development. Specifically, EPA is interested in feedback on Center development for the food processing and marina/boatbuilding sectors. The above criterion should be considered in your evaluation and proposal of sector, geographic, or topical candidates. Pursuant to EPA's Grants Competition Policy that went into effect October 1, 2002, EPA will compete any assistance agreement that will be provided to support new Center development in FY 2007.

Interested parties should communicate their suggestions regarding new sectors, geographical areas or topical issues for Center development to EPA by letter or e-mail to the contact listed below.

DATES: Contact by November 13, 2006.

FOR FURTHER INFORMATION CONTACT: Tracy Back, Team Leader, Compliance Assistance Centers, US, EPA (mail code 2224A), 1200 Pennsylvania Ave., NW., Washington, DC 20460.

E-mail: back.tracy@epa.gov. Telephone: 202-564-7076.

Fax: 202-564-0009.

Dated: September 27, 2006.
Michael M. Stahl,
Director, Office of Compliance.

[FR Doc. E6-16927 Filed 10-11-06; 8:45 am]

BILLING CODE 6560-50-P